DEPARTMENT OF HOMELAND SECURITY

Federal Emergency Management Agency

44 CFR Part 67

[Docket ID FEMA-2008-0020; Internal Agency Docket No. FEMA-B-1078]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 23, 2010.

ADDRESSES: The corresponding preliminary Flood Insurance Rate Map (FIRM) for the proposed BFEs for each community is available for inspection at the community's map repository. The respective addresses are listed in the table below.

You may submit comments, identified by Docket No. FEMA-B-1078, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ^ Elevation in meters (MSL): Effective | * Elevation in feet (NGVD) + Elevation in feet (NAVD) # Depth in feet above ground ^ Elevation in meters (MSL): Modified | Communities affected
Jackson County, Florida, and Incorporated Areas
Buck Pelt Creek | Just upstream of Fillmore Drive | None | +83 | Unincorporated Areas of Jackson County.
| Approximately 0.4 mile upstream of State Highway 73 | None | +137
Chipola River | Approximately 1,450 feet upstream of County Highway 162 | None | +88 | Unincorporated Areas of Jackson County.
| At the confluence with Marshall Creek | None | +93
Chipola River Tributary 7 | Approximately 0.4 mile downstream of Jefferson Street | None | +83 | Unincorporated Areas of Jackson County, City of Marianna
| Approximately 1.6 mile upstream of Penn Avenue | None | +134
Dry Creek | Approximately 2.7 miles upstream of the confluence with Chipola River | None | +74 | Unincorporated Areas of Jackson County.
| Just downstream of Mill Road | None | +97
Dry Creek Tributary 11 | At the confluence with Dry Creek | None | +74 | Unincorporated Areas of Jackson County.
| Approximately 1.5 mile upstream of the confluence with Dry Creek | None | +74
Little Creek | Just downstream of Ezell Road | None | +147 | Unincorporated Areas of Jackson County.
| Approximately 590 feet downstream of Ezell Road | None | +147
Long Branch | At the confluence with Dry Creek | None | +74 | Unincorporated Areas of Jackson County.
| Approximately 0.8 mile upstream of Interstate 10 | None | +132
Long Branch Tributary 2 | At the confluence with Long Branch | None | +78 | Unincorporated Areas of Jackson County.
| Approximately 0.7 mile upstream of the confluence with Long Branch | None | +98
Long Branch Tributary 3 | At the confluence with Long Branch | None | +87 | Unincorporated Areas of Jackson County.
| Approximately 1.3 mile upstream of Thompson Road | None | +129
Unnamed Stream 59 | At the confluence with Unnamed Stream 59-1 | None | +77 | Unincorporated Areas of Jackson County.
| Approximately 1.1 mile upstream of the confluence with Unnamed Stream 59-1 | None | +96
Unnamed Stream 59-1 | At the confluence with Unnamed Stream 59 | None | +77 | Unincorporated Areas of Jackson County.
| Approximately 0.5 mile upstream of Bright Prospect Road | None | +108
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Marianna
Maps are available for inspection at City Hall, 2898 Green Street, Marianna, FL 32446.
Unincorporated Areas of Jackson County
Maps are available for inspection at the Chamber of Commerce, 4318 Lafayette Street, Marianna, FL 32446.
Bacon County, Georgia, and Incorporated Areas
Hurricane Creek | Approximately 1,650 feet upstream of State Highway 32 | None | +143 | Unincorporated Areas of Bacon County.
| Approximately 575 feet upstream of U.S. Highway 1 | None | +149
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Bacon County
Maps are available for inspection at 502 West 12th Street, Alma, GA 31510.
Baldwin County, Georgia, and Incorporated Areas
Fishing Creek | approximately 0.4 mile downstream of U.S. Highway 441 | None | +276 | City of Milledgeville.
| Approximately 1.9 mile upstream of Blandy Road | None | +297
Fishing Creek (backwater area) | Approximately 0.5 mile southwest of Blandy Road and railroad | None | +289 | Unincorporated Areas of Baldwin County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Milledgeville
Maps are available for inspection at the Water Department, 119 East Hancock Street, Milledgeville, GA 31061.
Unincorporated Areas of Baldwin County
Maps are available for inspection at the County Commissioner's Office, 121 North Wilkinson Street, Suite 314, Milledgeville, GA 31061.
Candler County, Georgia, and Incorporated Areas
Lotts Creek | At Candler/Bulloch county boundary | None | +165 | Unincorporated Areas of Candler County.
| Approximately 300 feet upstream of Candler/Bulloch county boundary | None | +165
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Candler County
Maps are available for inspection at the County Courthouse, 705 North Lewis Street, Metter, GA 30439.
Jackson County, Georgia, and Incorporated Areas
Middle Oconee River | At downstream Jackson and Athens-Clarke county boundary | +619 | +621 | Unincorporated Areas of Jackson County.
| Downstream side of State Highway 330 | +650 | +651
Mulberry River | Approximately 0.54 mile southwest of the intersection of Etheridge Road and Cedar Grove Church Road | None | +696 | Unincorporated Areas of Jackson County.
| Approximately 0.86 mile southwest of the intersection of Etheridge Road and Cedar Grove Church Road | None | +701
Walton Creek | At downstream Jackson and Athens-Clarke county boundary | None | +651 | Unincorporated Areas of Jackson County.
| At upstream Jackson and Athens-Clarke county boundary | None | +656
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Jackson County
Maps are available for inspection at the County Administration Building, 67 Athens Street, Jefferson, GA 30549.
Lanier County, Georgia, and Incorporated Areas
Big Creek | Approximately 1,550 feet upstream of East Main Street | None | +159 | Unincorporated Areas of Lanier County.
| Approximately 1,700 feet downstream of East Main Street | None | +159
| Approximately 2,990 feet upstream from Brantley Street/State Highway 135 | None | +167
| Approximately 3,150 feet upstream from Brantley Street/State Highway 135 | None | +167
Mill Creek | Approximately 4,000 feet upstream from North Pecan Street | None | +176 | Unincorporated Areas of Lanier County
| Approximately 4,090 feet upstream from North Pecan Street | None | +176
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Lanier County
Maps are available for inspection at the County Courthouse, 100 Main Street, Lakeland, GA 31635.
Laurens County, Georgia, and Incorporated Areas
Ford Branch | Approximately 400 feet upstream of Shamrock Drive | None | +205 | Unincorporated Areas of Laurens County.
| Approximately 1,170 feet upstream of Shamrock Drive | None | +206
Hunger and Hardship Creek | At confluence with Oconee River | None | +181 | Unincorporated Areas of Laurens County.
| Approximately 79 feet upstream of Parker Dairy Road | None | +182
Long Branch | At confluence with Oconee River | None | +176 | Unincorporated Areas of Laurens County.
| Approximately 1,880 feet upstream of Brown Road | None | +220
Oconee River | At confluence with Long Branch | None | +176 | Unincorporated Areas of Laurens County, Town of East Dublin.
| At confluence with Hunger and Hardship Creek | None | +181
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of East Dublin
are available for inspection at 116 Savannah Avenue, East Dublin, GA 31027
.
Unincorporated Areas of Laurens County
Maps are available for inspection at 101 East Jackson Street, Dublin, GA 31021.
Wayne County, Georgia, and Incorporated Areas
Little McMillen Creek | Approximately 2,800 feet upstream of Bethlehem Road | +46 | +48 | City of Jesup
| Approximately 3,050 feet downstream of Grantham Road | +51 | +49
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Jesup
Maps are available for inspection at City Hall, 162 East Cherry Street, Jesup, GA 31546
Carroll County, Illinois, and Incorporated Areas
Mississippi River | Approximately Birch Road extended (approximately 526.6 miles upstream of the confluence with Ohio River) | None | +594 | Village of Thomson.
| Approximately Main Street extended (approximately 527 miles upstream of the confluence with Ohio River) | None | +594
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Village of Thomson
Maps are available for inspection at the Village Hall, 800 Main Street, Thomson, IL 61285.
Ogle County, Illinois, and Incorporated Areas
Kyte River | Approximately 525 feet upstream of Jack Dame Drive | None | +773 | Unincorporated Areas of Ogle County, City of Rochelle.
| Approximately 120 feet downstream of Treatment Plant Road | +777 | +777
Lake Mistake Drain | Just above the confluence with Gale Creek (railroad) | None | +703 | Unincorporated Areas of Ogle County.
| Approximately 0.68 mile upstream of Pines Road | None | +703
Rock River | Approximately 0.97 mile downstream of State Route 64 | None | +672 | City of Oregon.
| Approximately 0.89 mile upstream of State Route 64 | None | +677
Rock River | Approximately 0.61 mile downstream of the confluence with Stillman Creek | +685 | +686 | City of Byron.
| Approximately 500 feet upstream of the confluence with Stillman Creek | +685 | +686
South Branch Kishwaukee River | Upstream side of East Edson Road | None | +733 | Unincorporated Areas of Ogle County.
| Approximately 1,200 feet upstream of East Line Road | None | +733
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Byron
Maps are available for inspection at City Hall, 232 West 2nd Street, Byron, IL 61010.
City of Oregon
Maps are available for inspection at City Hall, 115 North 3rd Street, Oregon, IL 61061.
City of Rochelle
Maps are available for inspection at City Hall, 420 North 6th Street, Rochelle, IL 61068.
Unincorporated Areas of Ogle County
Maps are available for inspection at the Zoning Administrator's Office, Ogle County Courthouse Annex, 106 South 5th Street, Oregon, IL 61061.
Scott County, Iowa, and Incorporated Areas
Mississippi River | Approximately 13.4 miles downstream of Lock & Dam #15 | +560 | +561 | City of Buffalo, City of Bettendorf, City of Davenport, City of Le Claire, City of Princeton, City of Riverdale, Unincorporated Areas of Scott County.
| Approximately 13.7 miles upstream of Lock & Dam #14 | +586 | +585
Mississippi River backwater effect on Moore Creek | From the confluence with Mississippi River to a point approximately 0.4 mile upstream | None | +562 | City of Buffalo.
Mississippi River backwater effect on Oak Hill School Creek | From the confluence with Mississippi River to a point approximately 0.5 mile upstream | None | +561 | City of Buffalo.
Mississippi River backwater affected area #1 (Downstream) | Approximately 0.4 mile downstream of intersection of Buffalo Road and State Route 22 | None | +562 | City of Buffalo.
| Approximately 0.5 mile upstream of intersection of Dodge Street and State Route 22 | None | +562
Mississippi River backwater affected area #2 (Upstream) | Approximately 875 feet downstream of intersection of 115th Avenue and State Route 22 | None | +562 | City of Buffalo.
| Approximately 250 feet upstream of intersection of Buffalo Road and State Route 22 | None | +562
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bettendorf
Maps are available for inspection at 1609 State Street, Bettendorf, IA 52722.
City of Buffalo
Maps are available for inspection at 329 Dodge Street, Buffalo, IA 52728.
City of Davenport
Maps are available for inspection at 226 West 4th Street, Davenport, IA 52801.
City of Le Claire
Maps are available for inspection at 325 Wisconsin Street, Le Claire, IA 52753.
City of Princeton
Maps are available for inspection at 311 3rd Street, Princeton, IA 52768.
City of Riverdale
Maps are available for inspection at 110 Manor Drive, Bettendorf, IA 52722.
Unincorporated Areas of Scott County
Maps are available for inspection at 600 West 4th Street, Davenport, IA 52801.
Republic County, Kansas, and Incorporated Areas
Republic River | Approximately 4,475 feet downstream of U.S. Route 36 | None | +1434 | Unincorporated Areas of Republic County.
| Approximately 1,475 feet upstream of U.S. Route 36 | None | +1438
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Republic County
Maps are available for inspection at the County Courthouse, 1815 M Street, Belleville, KS 66935.
Allen County, Kentucky, and Incorporated Areas
Barren River Lake | Entire shoreline of Barren River Lake from just upstream of Barren River Dam to approximately 0.5 mile upstream of Brownsfield Road | None | +590 | Unincorporated Areas of Allen County.
Barren River Tributary 20 (Backwater effects from Barren River Lake) | From confluence with Barren River Lake to approximately 0.8 mile upstream of confluence with Barren River Lake | None | +590 | Unincorporated Areas of Allen County.
Barren River Tributary 23 (Backwater effects from Barren River Lake) | From confluence with Barren River Lake to approximately 0.4 mile upstream of confluence with Barren River Lake | None | +590 | Unincorporated Areas of Allen County.
Barren River Tributary 26 (Backwater effects from Barren River Lake) | From confluence with Barren River Lake to approximately 1,900 feet upstream of confluence with Barren River Lake | None | +590 | Unincorporated Areas of Allen County.
Barren River Tributary 28 (Backwater effects from Barren River Lake) | From confluence with Barren River Lake to approximately 0.4 mile upstream of confluence with Barren River Lake | None | +590 | Unincorporated Areas of Allen County.
Barren River Tributary 29 (Backwater effects from Barren River Lake) | From confluence with Barren River Lake to approximately 0.4 mile upstream of confluence with Barren River Lake | None | +590 | Unincorporated Areas of Allen County.
Bear Creek (Backwater effects from Barren River Lake) | From confluence with Rhoden Creek Lake to approximately 0.7 mile upstream of confluence with Rhoden Creek | None | +590 | Unincorporated Areas of Allen County.
Hurricane Creek (Backwater effects from Barren River Lake) | From confluence with Barren River Lake to approximately 0.7 mile upstream of confluence with Barren River Lake | None | +590 | Unincorporated Areas of Allen County.
Hurricane Creek Tributary 3 (Backwater effects from Barren River Lake) | From confluence with Hurricane Creek to approximately 1,000 feet upstream of confluence with Hurricane Creek | None | +590 | Unincorporated Areas of Allen County.
| From confluence with Barren River Lake to approximately 1,900 feet upstream of confluence with Barren River Lake | None | +590
Hurricane Creek Tributary 4 (Backwater effects from Barren River Lake) | From confluence with Barren River Lake to approximately 0.4 mile upstream of confluence with Barren River Lake | None | +590 | Unincorporated Areas of Allen County.
Manley Branch (Backwater effects from Barren River Lake) | From confluence with Barren River Lake to approximately 1 mile upstream of confluence with Barren River Lake | None | +590 | Unincorporated Areas of Allen County.
Manley Branch Tributary 3 (Backwater effects from Barren River Lake) | From confluence with Barren River Lake to approximately 0.8 mile upstream of confluence with Barren River Lake | None | +590 | Unincorporated Areas of Allen County.
Rhoden Creek (Backwater effects from Barren River Lake) | From confluence with Barren River Lake to approximately 1.4 mile upstream of confluence with Barren River Lake | None | +590 | Unincorporated Areas of Allen County.
Trace Creek (Backwater effects from Barren River Lake) | From confluence with Barren River Lake to approximately 1 mile upstream of confluence with Barren River Lake | None | +590 | Unincorporated Areas of Allen County.
Walnut Creek (Backwater effects from Barren River Lake) | From confluence with Barren River Lake to approximately 1.1 mile upstream of confluence with Barren River Lake | None | +590 | Unincorporated Areas of Allen County.
Walnut Creek Tributary 7 (Backwater effects from Barren River Lake) | From confluence with Walnut Creek Lake to approximately 1.1 mile upstream of confluence with Walnut Creek | None | +590 | Unincorporated Areas of Allen County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Allen County
Maps are available for inspection at 201 West Main Street, Scottsville, KY 42164.
Clay County, Minnesota, and Incorporated Areas
Buffalo River | At the confluence with the Red River of the North | +882 | +883 | Unincorporated Areas of Clay County, City of Georgetown.
| Just downstream of U.S. Highway 10 (1st Crossing) | +947 | +948
County Ditch No. 20 (Connecting Reach/Upper Reach) | At the convergence with the Red River of the North | +892 | +893 | Unincorporated Areas of Clay County.
| Approximately 2,500 feet downstream of Wall Street Avenue North/County Highway 22 | +895 | +896
County Ditch No. 20 (Lower Reach) | At the convergence with the Red River of the North | +889 | +888 | Unincorporated Areas of Clay County.
| At divergence from County Ditch No. 20 (Connecting Reach/Upper Reach) | +892 | +893
County Ditch No. 41 | Approximately 5,645 feet downstream of Main Street South/County Highway 78 | None | +908 | Unincorporated Areas of Clay County, City of Moorhead.
| Approximately 320 feet downstream of Burlington Northern & Santa Fe Railway | None | +911
County Ditch No. 50 | At 34th Street North | None | +903 | City of Dilworth.
| Approximately 2,590 feet upstream of U.S. Highway 10/Center Avenue East | +912 | +911
County Drain No. 51 | At confluence with Buffalo River | None | +891 | Unincorporated Areas of Clay County.
| Approximately 3,900 feet upstream of 90th Avenue North/County Highway 26 | None | +902
Glyndon Tributary | Approximately 1,700 feet downstream of U.S. Highway 10/State Street | +915 | +916 | Unincorporated Areas of Clay County, City of Glyndon.
| At 110th Street South/County Highway 71 | None | +926
Red River of the North | At the Norman County boundary | +878 | +879 | Unincorporated Areas of Clay County, City of Georgetown, City of Moorhead.
| At the Wilkin County boundary | +916 | +919
South Branch Buffalo River | At confluence with Buffalo River | +914 | +915 | Unincorporated Areas of Clay County.
| Approximately 200 feet downstream of 180th Avenue South | +943 | +942
South Branch Wild Rice River | Backwater area approximately 1,450 feet downstream of Burlington Northern & Santa Fe Railway/State Highway 32 | None | +1119 | City of Ulen.
Stony Creek | At confluence with South Branch Buffalo River | +925 | +924 | Unincorporated Areas of Clay County.
| Approximately 100 feet upstream of the confluence with South Branch Buffalo River | +925 | +924
Unnamed Tributary to Whisky Creek | At 165th Avenue South | None | +993 | Unincorporated Areas of Clay County.
| Approximately 3,110 feet upstream of Front Street South/County Highway 52 | None | +1030
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Dilworth
Maps are available for inspection at 21st Avenue Southeast, Dilworth, MN 56529.
City of Georgetown
Maps are available for inspection at 127 Main Street, Georgetown, MN 56546.
City of Glyndon
Maps are available for inspection at 36 3rd Street Southeast, Glyndon, MN 56547.
City of Moorhead
Maps are available for inspection at 500 Center Avenue, Moorhead, MN 56561.
City of Ulen
Maps are available for inspection at 201 1st Street Northwest, Ulen, MN 56585.
Unincorporated Areas of Clay County
Maps are available for inspection at 807 11th Street North, Moorhead, MN 56560.
Rice County, Minnesota, and Incorporated Areas
Cannon River | Approximately 4,460 feet downstream of Hester Street/County Highway 1 | None | +912 | City of Morristown, City of Northfield, Unincorporated Areas of Rice County.
| At State Highway 60/Morristown Boulevard | None | +1003
Spring Creek | Approximately 60 feet upstream of North Dennison Road/County Highway 28 | None | +945 | City of Northfield, Unincorporated Areas of Rice County.
| Approximately 740 feet upstream of Ford Street | None | +970
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Morristown
Maps are available for inspection at City Hall, 402 Central Avenue, Morristown, MN 55052.
City of Northfield
Maps are available for inspection at City Hall, 801 Washington Street, Northfield, MN 55057.
Unincorporated Areas of Rice County
Maps are available for inspection at the County Government Services Building, 320 Northwest 3rd Street, Faribault, MN 55021.
Cedar County, Missouri, and Incorporated Areas
Stockton Lake | Shorelines of Stockton Lake | None | +887 | City of Stockton, Unincorporated Areas of Cedar County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Stockton
Maps are available for inspection at 201 South High, Stockton, MO 65785.
Unincorporated Areas of Cedar County
Maps are available for inspection at 113 South Street, Stockton, MO 65785.
Otero County, New Mexico, and Incorporated Areas
Cherokee Bill Canyon | Approximately 2.71 miles downstream of the intersection of U.S. Highway 70 and White Tail Road | None | +6699 | Muscalero Apache Indian Reservation.
| Approximately 2.61 miles downstream of the intersection of U.S. Highway 70 and White Tail Road | None | +6716
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Muscalero Apache Indian Reservation
Maps are available for inspection at 1000 New York Ave, Alamogordo, NM 88310.
Crawford County, Ohio, and Incorporated Areas
Sandusky River | Approximately 0.8 mile downstream of Gay Street | None | +970 | Unincorporated Areas of Crawford County.
| Approximately 0.6 mile downstream of U.S. Highway 30 | None | +985
Zuber Ditch | Approximately 0.6 mile upstream of the confluence with Olentangy River | None | +1131 | Unincorporated Areas of Crawford County.
| Approximately 900 feet downstream of North Market Street | None | +1131
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Crawford County
Maps are available for inspection at the County Administration Building, 112 East Mansfield Street, Bucyrus, OH 44820.
Noble County, Ohio, and Incorporated Areas
Salt Run | Approximately 460 feet downstream of State Route 78 in the Village of Caldwell | None | +726 | Unincorporated Areas of Noble County, Village of Caldwell.
| Approximately 280 feet upstream of State Route 564 | None | +738
West Fork Duck Creek | Approximately 0.41 mile upstream of Township Highway 330 | None | +734 | Unincorporated Areas of Noble County, Village of Belle Valley.
| Approximately 0.6 mile upstream of Main Street in the Village of Belle Valley | None | +746
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Noble County
Maps are available for inspection at the County Auditor's Office, 200 Courthouse Square, Caldwell, OH 43724.
Village of Belle Valley
Maps are available for inspection at the County Auditor's Office, 200 Courthouse Square, Caldwell, OH 43724.
Village of Caldwell
Maps are available for inspection at the County Auditor's Office, 200 Courthouse Square, Caldwell, OH 43724.
Kent County, Rhode Island (All Jurisdictions)
Maskerchugg River | Approximately 750 feet downstream of State Route 1 (Boston Post Road) | +13 | +15 | City of Warwick, Town of East Greenwich.
| Approximately 45 feet upstream of Division Street | +69 | +75
North Branch Pawtuxet River (Upper Reach) | Approximately 530 feet downstream of State Route 115 (located in Providence County) | None | +183 | Town of Coventry.
| Approximately 240 feet downstream of State Route 116 (located in Providence County) | None | +185
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Warwick
Maps are available for inspection at the City Hall-Annex Building, Planning Department, 3275 Post Road, Warwick, RI 02286.
Town of Coventry
Maps are available for inspection at the Public Works Department, 1675 Flat River Road, Coventry, RI 02816.
Town of East Greenwich
Maps are available for inspection at the Department of Public Works, 111 Pierce Street, East Greenwich, RI 02818.
Van Zandt County, Texas, and Incorporated Areas
Mill Creek | Approximately 400 feet upstream of State Highway 64 | None | +457 | Unincorporated Areas of Van Zandt County.
| Just downstream of State Highway 243 | None | +467
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Van Zandt County
Maps are available for inspection at 121 East Dallas Street, Room 204, Canton, TX 75103.

(Catalog of Federal Domestic Assistance No. 97.022, “Flood Insurance.”)

Deborah S. Ingram,
Acting Deputy Assistant Administrator for Mitigation, Mitigation Directorate, Department of Homeland Security, Federal Emergency Management Agency.

[FR Doc. E9-28314 Filed 11-24-09; 8:45 am]

BILLING CODE 9110-12-P